OVERSEAS PRIVATE INVESTMENT CORPORATION

September 17, 2007 Public Hearing

OPIC's Sunshine Act notice of its Public Hearing in Conjunction with each Board meeting was published in the Federal Register (Volume 72, Number 176, Page 52169) on September 12, 2007. No requests were received to provide testimony or submit written statements for the record; therefore, OPIC's public hearing scheduled for 2 p.m., September 17, 2007 in conjunction with OPIC's September 20, 2007 Board of Directors meeting has been cancelled.

Contact Person for Information: Information on the hearing cancellation may be obtained from Connie M. Downs at (202) 336-8438, via facsimile at (202) 218-0136, or via e-mail at cdown@opic.gov.

Dated: September 14, 2007.
Connie M. Downs,
OPIC Corporate Secretary.

[FR Doc. 07-4644 Filed 9-14-07; 2:19 pm]

BILLING CODE 3210-01-M